DEPARTMENT OF ENERGY

Federal Energy Regulatory Commission

[Docket No. RP16-329-000]

Transwestern Pipeline Company LLC; Notice of Technical Conference

Take notice that a technical conference will be held on Tuesday, April 5, 2016, at 9:00 a.m. (Eastern Standard Time), in Hearing Room 5 at the offices of the Federal Energy Regulatory Commission, 888 First Street NE., Washington, DC 20426.

At the technical conference, the Commission Staff and the parties to the proceeding should be prepared to discuss all issues set for technical conference as established in the January 28, 2016 Order (Transwestern Pipeline Company LLC, 154 FERC ¶ 61,051 (2016)). All interested persons are permitted to attend.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference, please contact David Faerberg, 202-502-8275, david.faerberg@ferc.gov.

Dated: February 29, 2016.
Nathaniel J. Davis, Sr.,
Deputy Secretary.

[FR Doc. 2016-05499 Filed 3-10-16; 8:45 am]

BILLING CODE 6717-01-P